DEPARTMENT OF THE TREASURY

Agency Information Collection Activities; Submission for OMB Review; Comment Request; Multiple Internal Revenue Service Information Collection Requests

AGENCY: Departmental Offices, Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments must be received on or before October 28, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Internal Revenue Service (IRS)

1. Title: Reduction of Tax Attributes Due to Discharge of Indebtedness.

OMB Control Number: 1545-0046.

Type of Review: Extension of a currently approved collection.

Description: Internal Revenue Code (IRC) section 108 allows taxpayers to exclude from gross income amounts attributable to discharge of indebtedness in title 11 cases, insolvency, or a qualified farm indebtedness. Section 1081(b) allows corporations to exclude from gross income amounts attributable to certain transfers of property. The data is used to verify adjustments to basis of property and reduction of tax attributes.

Form Number: IRS Form 982.

Affected Public: Individuals or households; Businesses or other for-profits.

Estimated Number of Respondents: 667.

Frequency of Response: On occasion.

Estimated Total Number of Annual Responses: 667.

Estimated Time per Respondent: 11 hours 23 minutes.

Estimated Total Annual Burden Hours: 7,491 hours.

2. Title: Declaration and Signature for Electronic and Magnetic Media Filing.

OMB Control Number: 1545-0967.

Type of Review: Extension of a currently approved collection.

Description: The IRS is actively engaged in encouraging e-filing and electronic documentation. These forms are used to secure taxpayer signatures and declarations in conjunction with electronic or magnetic media filing of income tax returns. Form 8453-FE is used to authenticate the electronic Form 1041, U.S. Income Tax Return for Estates and Trusts. Form 8453-EMP is used to authenticate an electronic employment tax form, authorize the electronic return originator (ERO). Form 8879-EMP is used to authenticate an electronic employment tax return or request for refund, authorize an ERO or ISP to transmit via a third-party, and authorize an electronic funds withdrawal for payment of employment taxes owe. Form 8879-F is used by an electronic return originator when the fiduciary wants to use a personal identification number to electronically sign an estate's or trust's electronic income tax return, and if applicable consent to electronic funds withdrawal.

Form Number: IRS Forms 8879-F, 8453-FE, 8453-EMP, and 8879-EMP.

Affected Public: Individuals or households; Businesses and other for-profit organizations; and Not-for-profit institutions.

Estimated Number of Respondents: 21,000,881.

Frequency of Response: Annually.

Estimated Total Number of Annual Responses: 21,000,881.

Estimated Time per Response: 2 hours 34 minutes.

Estimated Total Annual Burden Hours: 53,783,747 hours.

3. Title: Procedural Rules for Excise Taxes Currently Reportable on Form 720.

OMB Control Number: 1545-1296.

Type of Review: Extension of a currently approved collection.

Description: Treasury Decision (T.D.) 8685 contains the regulations addressing persons required to make deposits of excise taxes. Internal Revenue Code (IRC) Section 4251 imposes a tax on amounts paid for certain communications services. IRC Section 4261 imposes various taxes on amounts paid for the transportation of persons by air. IRC Section 4271 imposes a tax on amounts paid for the air transportation of property. T.D. 8442 provides guidance for reporting excise taxes on Form 720. Section 6302(c) authorizes the Secretary to prescribe the time, manner, and conditions under which taxes imposed under internal revenue laws may be received at government depositories.

Regulation Project Number: T.D. 8685 and T.D. 8442.

Affected Public: Individuals or households; Businesses and other for-profit organizations; and Not-for-profit institutions.

Estimated Number of Respondents: 10,500.

Frequency of Response: On Occasion.

Estimated Total Number of Annual Responses: 10,500.

Estimated Time per Response: 23 hours 5 minutes.

Estimated Total Annual Burden Hours: 242,350 hours.

4. Title: Application Procedures for Qualified Intermediary Status Under Section 1441; Final Qualified Intermediary Withholding Agreement.

OMB Control Number: 1545-1597.

Type of Review: Extension of a currently approved collection.

Description: Internal Revenue Code (IRC) Section 1441 (Withholding of tax on nonresident aliens), states any nonresident alien individual or of any foreign partnership shall deduct and withhold from such items a tax equal to 30 percent or 14 percent depending on circumstances. Revenue Procedure 2017-15 sets forth the final qualified intermediary (QI) withholding agreement (QI agreement) entered under Treasury Regulation 1.1441-1(e)(5). The QI agreement allows foreign persons to enter into an agreement with the IRS to simplify their obligations as withholding agents and as payors for amounts paid to their account holders.

The reporting requirements are set out in Section 5.01 of this Revenue Procedure. A prospective QI must submit an application (Form 14345) to become a QI. A prospective QI must submit the information specified in Form 14345 through the QI/WP/WT Application and Accounts Management System. An application must also include any additional information and documentation requested by the IRS.

Form 14345 is an application form for foreign financial institutions requesting Qualified Intermediary Agreement with the IRS.

Regulation Project Number: Revenue Procedure 2017-15.

Form Number: IRS Form 14345.

Affected Public: Businesses and other for-profit organizations.

Estimated Number of Respondents: 88,504.

Frequency of Response: On Occasion.

Estimated Total Number of Annual Responses: 1,097,991.

Estimated Time per Response: 16 minutes—12 hours.

Estimated Total Annual Burden Hours: 301,018 hours.

5. Title: Employee Retention Credit for Employers Affected by Qualified Disasters.

OMB Control Number: 1545-1978.

Type of Review: Extension of a currently approved collection.

Description: Form 5884-A is used to figure certain credits for disaster area employers. These credits typically include employee retention credits for eligible employers who conducted an active trade or business in certain disaster areas. The credit is equal to 40 percent of qualified wages for each eligible employee (up to a maximum of $6,000 in qualified wages per employee).

Form Number: IRS Forms 5884-A.

Affected Public: Businesses and other for-profit organizations.

Estimated Number of Respondents: 250,000.

Frequency of Response: On Occasion.

Estimated Total Number of Annual Responses: 250,000.

Estimated Time per Response: 2.55 hours.

Estimated Total Annual Burden Hours: 637,500 hours.

6. Title: Employer's Annual Employment Tax Return.

OMB Control Number: 1545-2007.

Type of Review: Revision of a currently approved collection.

Description: Form 944 is used by employers with an estimated annual employment tax liability of $1,000 or less for the entire calendar year. Form 944(SP) is the Spanish version of the Form 944. Form 944-X and Form 944-X(SP) are used to correct errors made on Form 944.

Form Number: IRS Forms 944, 944(SP), 944-X, and 944-X(SP).

Affected Public: Individuals or households; Businesses and other for-profit organizations; Not-for-profit institutions; and State, Local and Tribal governments.

Estimated Number of Respondents: 135,884.

Frequency of Response: Annually.

Estimated Total Number of Annual Responses: 135,884.

Estimated Time per Response: 23 hours 31 minutes.

Estimated Total Annual Burden Hours: 3,196,031 hours.

7. Title: Voluntary Disclosure Program (VDP) and Streamlined Filing Compliance Procedures.

OMB Control Number: 1545-2241.

Type of Review: Revision of a currently approved collection.

Description: The IRS has two different compliance paths for two different populations of taxpayers. First, the Voluntary Disclosure Practice is a longstanding practice of IRS Criminal Investigation (CI). CI takes timely, accurate, and complete voluntary disclosures under consideration when determining whether to recommend criminal prosecution. A voluntary disclosure will not automatically guarantee immunity from prosecution; however, a voluntary disclosure may result in prosecution not being recommended. Form 14457 is used for all voluntary disclosures. This redesigned form is to be used by taxpayers to apply for the IRS-CI Voluntary Disclosure Practice (VDP). The form is submitted by the taxpayer in two parts. Part I is a preclearance request. Once a taxpayer receives preclearance from IRS-CI, they will submit Part II, the voluntary disclosure application. Versions prior to March 2019 were used by taxpayers to apply for the IRS Offshore Voluntary Disclosure Program (OVDP) that closed on September 28, 2018.

Second, the Streamlined Filing Compliance Procedures are available to eligible taxpayers who can truthfully certify that their failure to report foreign financial assets and pay all tax due in respect of those assets resulted from non-willful conduct. Forms 14653, 15023, and 14654 relate to the Streamlined Filing Compliance Procedures.

The IRS uses the data on Form 14457 in administering Criminal Investigation's Voluntary Disclosure Practice.

Form Number: IRS Forms 14457, 14653, 14654, and 15023.

Affected Public: Individuals or households; Businesses or other for-profit institutions; Not-for-profit institutions.

Estimated Number of Respondents: 16,569.

Frequency of Response: On occasion.

Estimated Total Number of Annual Responses: 16,569.

Estimated Time per Response: 2 hours up to 80 hours.

Estimated Total Annual Burden Hours: 411,138 hours.

8. Title: IRS Customer Satisfaction Surveys.

OMB Control Number: 1545-2250.

Type of Review: Revision of a currently approved collection.

Description: Surveys conducted under this clearance are used by the Internal Revenue Service to determine levels of customer satisfaction as well as determining issues that contribute to customer burden. This information will be used to make quality improvements to products and services. Collecting, analyzing, and using customer opinion data is a vital component of IRS's Balanced Measures Approach, as mandated by Internal Revenue Service Reform and Restructuring Act of 1998 and Executive Order 12862.

Form Number: Not applicable.

Affected Public: Individuals or households; Businesses and other for-profit organizations.

Estimated Number of Respondents: 135,000.

Frequency of Response: Annually.

Estimated Total Number of Annual Responses: 135,000.

Estimated Time per Response: Varies, up to 9 minutes.

Estimated Total Annual Burden Hours: 20,000 hours.

9. Title: Credit for Oil and Gas Production From Marginal Wells.

OMB Control Number: 1545-2278.

Type of Review: Extension of a currently approved collection.

Description: Public Law 108-357, Title III, Subtitle C, section 341(a) instructs the IRS to develop a credit for oil and gas production from marginal wells, which is reflected on Form 8904 and its instructions. Tax year 2017 will be the first year Form 8904 and its instructions will be released. The credit for natural gas production will be available for taxable years beginning in calendar year 2020; a new notice published in the Internal Revenue Bulletin on June 7, 2021. The credit for oil production remains unavailable.

Form Number: IRS Forms 8904.

Affected Public: Individuals or households; Businesses and other for-profit organizations; Not-for-profit institutions; and State, Local and Tribal governments.

Estimated Number of Respondents: 20,000.

Frequency of Response: Annually.

Estimated Total Number of Annual Responses: 20,000.

Estimated Time per Response: 2 hours 58 minutes.

Estimated Total Annual Burden Hours: 59,200 hours.

10. Title: Employee Retention Credit for Certain Tax-Exempt Organizations Affected by Qualified Disasters.

OMB Control Number: 1545-2298.

Type of Review: Extension of a currently approved collection.

Description: Under section 303(d) of the Taxpayer Certainty and Disaster Tax Relief Act 2020, a qualified Tax-Exempt Organization (including certain governmental entities) that continued to pay or incur wages after activities of the organization (treated as an active trade or business for this purpose) became inoperable because of damage from a qualified disaster may be able to use Form 5884-D to claim the 2020 qualified disaster employee retention credit against certain payroll taxes. The credit is equal to 40 percent of qualified wages for each eligible employee (up to a maximum of $6,000 in qualified wages per employee).

Form Number: IRS Form 5884-D.

Affected Public: Not-for-profit institutions; State, Local and Tribal governments.

Estimated Number of Respondents: 26,300.

Frequency of Response: Once.

Estimated Total Number of Annual Responses: 26,300.

Estimated Time per Response: 2.23 hours.

Estimated Total Annual Burden Hours: 58,649 hours.

Authority: 44 U.S.C. 3501 et seq.

Dated: September 23, 2021.
Molly Stasko,
Treasury PRA Clearance Officer.

[FR Doc. 2021-21075 Filed 9-27-21; 8:45 am]

BILLING CODE 4830-01-P